DEPARTMENT OF HOMELAND SECURITY

[Docket No. DHS-2016-0089]

National Infrastructure Advisory Council

AGENCY: National Protection and Programs Directorate, DHS.

ACTION: Committee management; notice of an Open Federal Advisory Committee meeting.

SUMMARY: The National Infrastructure Advisory Council (NIAC) will meet Thursday, February 16, 2017, at 1331 F Street NW., Suite 1000, Washington, DC 20004. This meeting will be open to the public.

DATES: The NIAC will meet on February 16, 2017. The meeting will be held from 1:30 p.m.-4:30 p.m. EST. The meeting may close early if the committee has completed its business. For additional information, please consult the NIAC Web site, www.dhs.gov/NIAC, or contact the NIAC Secretariat by phone at (703) 235-2888 or by email at NIAC@hq.dhs.gov.

ADDRESSES: 1331 F Street NW., Suite 1000, Washington, DC 20004. Members of the public will register at the registration table prior to entering the meeting room. For information on facilities or services for individuals with disabilities, or to request special assistance at the meeting, contact the person listed under FOR FURTHER INFORMATION CONTACT below as soon as possible.

To facilitate public participation, we are inviting public comment on the issues to be considered by the Council as listed in the “Summary” section below. Comments must be submitted in writing no later than 12:00 p.m. on February 13, 2017, in order to be considered by the Council in its meeting. The comments must be identified by “DHS-2016-0089,” and may be submitted by any one of the following methods:

• Federal eRulemaking Portal: http://www.regulations.gov. Follow the instructions for submitting written comments.

• Email: NIAC@hq.dhs.gov. Include the docket number (DHS-2016-0089) in the subject line of the message.

• Fax: (703)235-9707.

• Mail: Ginger Norris, National Protection and Programs Directorate, Department of Homeland Security, 245 Murray Lane SW., Mail Stop 0612, Washington, DC 20598-0607.

Instructions: All written submissions received must include the words “Department of Homeland Security” and the docket number for this action. Written comments received will be posted without alteration at www.regulations.gov, including any personal information provided.

Docket: For access to the docket or to read background documents or comments received by the NIAC, go to www.regulations.gov. Enter “NIAC” in the search line and the Web site will list all relevant documents for your review.

Members of the public will have an opportunity to provide oral comments on the topics on the meeting agenda below, and on any previous studies issued by the NIAC. We request that comments be limited to the issues and studies listed in the meeting agenda and previous NIAC studies. All previous NIAC studies can be located at www.dhs.gov/NIAC. Public comments may be submitted in writing or presented in person for the Council to consider. Comments received by Ginger Norris on or after 1:00 p.m. on February 16, 2017 will still be accepted and reviewed by the Members, but not necessarily at the time of the meeting. In-person presentations will be limited to three minutes per speaker, with no more than 15 minutes for all speakers. Parties interested in making in-person comments should register on the Public Comment Registration list available at the entrance to the meeting location prior to the beginning of the meeting.

FOR FURTHER INFORMATION CONTACT: Ginger Norris, Department of Homeland Security, National Protection and Programs Directorate, Office of Infrastructure Protection, NIAC, Designated Federal Officer, 245 Murray Lane SW., Mail Stop 0607, Washington, DC 20598-0607, telephone 202-441-5885.

SUPPLEMENTARY INFORMATION: Notice of this meeting is given under the Federal Advisory Committee Act, 5 U.S.C. appendix. The NIAC shall provide the President, through the Secretary of Homeland Security, with advice on the security and resilience of the Nation's critical infrastructure sectors. The NIAC will meet to discuss issues relevant to critical infrastructure security and resilience, as directed by the President.

The meeting will commence at 1:00 p.m. EST. At this meeting, the Council will discuss its newest tasking and receive briefings. All presentations will be posted prior to the meeting on the Council's public Web page— www.dhs.gov/NIAC.

Public Meeting Agenda

I. Opening of Meeting

II. Roll Call of Members

III. Opening Remarks and Introductions

IV. Approval of SEP 2016 Meeting Minutes

V. Presentations on Future Focus Study

VI. Public Comment

VII. Discussion of New NIAC Business

VIII. Closing Remarks

IX. Adjournment

Dated: January 4, 2017.
Ginger Norris,
Designated Federal Officer for the NIAC.

[FR Doc. 2017-00789 Filed 1-13-17; 8:45 am]

BILLING CODE 9110-9-P